DEPARTMENT OF TRANSPORTATION

Federal Aviation Administration

Notice of Intent To Request Approval From the Office of Management and Budget (OMB) of One New Public Collection of Information

AGENCY: Federal Aviation Administration (FAA), DOT.

ACTION: Notice.

SUMMARY: In compliance with the Paperwork Reduction Act (44 U.S.C. 3501 et seq.), the FAA invites public comment on one new public information collection which will be submitted to OMB for approval.

DATES: Comments must be received on or before November 8, 2004.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to collection of information unless it displays a currently valid OMB control number. Therefore, the FAA solicits comments on the following collection of information in order to evaluate the necessity of the collection, the accuracy of the agency's estimate of the burden, the quality, utility, and clarity of the information to be collected, and possible ways to minimize the burden of the collection in preparation for submission to approve the clearance of the following information collection.

1. 2120-XXXX, SWIFT Customer Satisfaction Survey. The FAA wishes to add a survey to the automated staffing solutions under the umbrella of Selections WithIn Faster Times (SWIFT) system. The FAA will use the information gathered to determine if individuals applying for jobs on-line are satisfied with the automated staffing solution. The survey will provide the FAA with information that will enable them to improve and enhance their automated systems. The estimated annual reporting burden is 2,500 hours.

Issued in Washington, DC, on August 31, 2004.
Judith D. Street,
FAA Information Collection Clearance Officer, APF-100.

[FR Doc. 04-20256 Filed 9-3-04; 8:45 am]

BILLING CODE 4910-13-M